DEPARTMENT OF AGRICULTURE

Rural Business-Cooperative Service

Maximum Dollar Amount on Awards Under the Rural Economic Development Loan and Grant Program for Fiscal Year 2007; Correction

AGENCY: Rural Business-Cooperative Service, USDA.

ACTION: Notice; correction.

SUMMARY: The Rural Business-Cooperative Service (RBS) published a document in the Federal Register of Friday, December 8, 2006, [71 FR 71128] concerning the announcement of the maximum dollar amount under the Rural Economic Development Loan and Grant Program (REDLG). This document announces the actual amount available and the expanded eligibility requirements.

FOR FURTHER INFORMATION CONTACT: Cindy Mason, Loan Specialist, USDA Rural Development, STOP 3225, Room 6866, 1400 Independence Avenue, SW., Washington, DC 20250-3225. Telephone: (202) 690-1433, FAX: (202) 720-2213.

Correction

In the Federal Register of December 8, 2006, in FR Doc. E6-20871, on page 71128, in the third column, correct the SUPPLEMENTARY INFORMATION caption to read: RBS published a Notice of Funds Availability (NOFA) on December 8, 2006. Based on the Revised Continuing Appropriations Resolution, 2007 (2007 Appropriation), (Public Law 110-5), the total amount available for zero-interest loans is $24,752,477. As stated in the NOFA, the maximum loan and grant awards pursuant to 7 CFR 1703.28 is 3.0 percent of the program level rounded to the nearest $10,000, but no less than $200,000. Thus, the maximum dollar amount available per loan is $740,000. Total amount available for grants is $10,000,000. Thus, the maximum amount available per grant is $300,000.

Additionally, the 2007 Appropriation continued the REDLG eligibility requirements implemented in FY 2006. Therefore, an organization is considered to be eligible to participate in the REDLG program if it can be described as:

1. Any former Rural Utilities Service borrower that has repaid or prepaid an insured, direct, or guaranteed loan under the Rural Electrification Act;

2. Any not-for-profit utility that is eligible to receive an insured or direct loan under such act; or

3. Any borrower under such act.

The Regulations for these programs are at 7 CFR part 1703, subpart B. The maximum loan and grant awards are determined in accordance with 7 CFR 1703.28. The maximum loan and grant awards are calculated at 3.0 percent of the projected program levels, rounded to the nearest $10,000; however, as specified in 7 CFR 1703.28(b), regardless of the projected total amount that will be available, the maximum size may not be lower than $200,000. The projected program level during FY 2007 for zero-interest loans is $25,215,484.47, and the projected level for grants is $10,000,000. Applying the 3.0 percent to the program level for loans, rounded to the nearest $10,000, results in a projected maximum loan award of $740,000. Applying the specified 3.0 percent to the program level for grants results in an amount higher than $200,000. Therefore, the projected grant award for FY 2007 is $300,000.

Dated: May 1, 2007.
Jackie J. Gleason,
Administrator, Rural Business-Cooperative Service.

[FR Doc. E7-8682 Filed 5-4-07; 8:45 am]

BILLING CODE 3410-XY-P